DEPARTMENT OF COMMERCE

National Oceanic and Atmospheric Administration

[I.D. 111704B]

South Atlantic Fishery Management Council; Public Meeting

AGENCY: National Marine Fisheries Service (NMFS), National Oceanic and Atmospheric Administration (NOAA), Commerce.

ACTION: Notice of public workshop.

SUMMARY: The Southeast Data, Assessment and Review (SEDAR) process for the Caribbean Yellowtail Snapper and Spiny Lobster consists of a series of three workshops: a data workshop, an assessment workshop, and a review workshop. As part of this series, a Data Workshop is being held. See SUPPLEMENTARY INFORMATION.

DATES: The SEDAR 8 Data Workshop for yellowtail snapper and spiny lobster will take place December 6-10, 2004. The workshop will be held December 6, 2004, 1 p.m. to 5:30 p.m.; December 7-9, 2004, 8:30 a.m. to 5 p.m.; and December 10, 2004, 8:30 a.m. to12 noon.

ADDRESSES: The Data Workshop will be held at the Frenchman's Reef and Morningstar Resort, 5 EstateBakkeroe, St. Thomas, VI 00801; telephone: (340) 776-8500.

FOR FURTHER INFORMATION CONTACT: John Carmichael, SEDAR Coordinator, SEDAR/SAFMC, One Southpark Circle, Suite 306, Charleston, SC 29407; telephone: (843) 571-4366 or toll free (866) SAFMC-10; fax: 843/769-4520.

SUPPLEMENTARY INFORMATION: The Gulf of Mexico, South Atlantic, and Caribbean Fishery Management Councils, in conjunction with NOAA Fisheries and the Atlantic and Gulf States Marine Fisheries Commissions, have implemented the SEDAR process, a multi-step method for determining the status of fish stocks in the Southeast Region. SEDAR typically includes three workshops: (1) Data Workshop, (2) Assessment Workshop, and (3) Review Workshop. The product of the Data Workshop and the Assessment Workshop is a stock assessment report, which describes the fisheries, evaluates the status of the stock, estimates biological benchmarks, projects future population conditions, and recommends research and monitoring needs. The assessment report is independently peer reviewed at the Review Workshop. The products of the Review Workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, international experts, and staff of Regional Councils, Interstate Commissions, and state and Federal agencies.

The Data Workshop gathers stock information, synthesizes available data sets, and compiles recommendations concerning the best available data. Workshop Panelists assemble the best available data and document their opinions on various biological and data collection issues. Panelists are responsible for drafting section I of the SEDAR Stock Assessment Report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Fishery Management Council office (see ADDRESSES) at least 5 business days prior to the workshop.

Dated: November 18, 2004.
Alan D. Risenhoover,
Acting Director, Office of Sustainable Fisheries, National Marine Fisheries Service.

[FR Doc. E4-3287 Filed 11-22-04; 8:45 am]

BILLING CODE 3510-22-S